DEPARTMENT OF TRANSPORTATION

Federal Aviation Administration

14 CFR Part 39

[Docket No. 99-NE-50-AD; Amendment 39-11796; AD 2000-12-18]

RIN 2120-AA64

Airworthiness Directives; Rolls-Royce Ltd. Dart 511, 511-7E, 514-7, 528, 528-7E, 529-7E, 532-7, 532-7L, 532-7N, 532-7P, 532-7R, 535-7R, 551-7R, and 552-7R Turboprop Engines

AGENCY: Federal Aviation Administration, DOT.

ACTION: Final rule.

SUMMARY: This amendment adopts a new airworthiness directive (AD), applicable to Rolls-Royce Ltd. Dart 511, 511-7E, 514-7, 528, 528-7E, 529-7E, 532-7, 532-7L, 532-7N, 532-7P, 532-7R, 535-7R, 551-7R, and 552-7R turboprop engines. This AD requires the installation of a feathering probe and a steel retaining ring in the reduction gear housing (RGH) and replacement of a transfer bobbin installed in the torquemeter. This amendment is prompted by two reports of the failure of a propeller to feather following the failure of the RGH annulus gear, which resulted in the propeller overspeeding and the release of a propeller blade, causing damage to the airplane. The actions specified by this AD are intended to prevent a propeller from overspeeding and the release of a propeller blade after a failure of the RGH annulus gear, which could result in damage to an adjacent engine or to the airplane.

DATES: Effective date July 31, 2000. The incorporation by reference of certain publications listed in the rule is approved by the Director of the Federal Register as of July 31, 2000.

ADDRESSES: The service information referenced in this AD may be obtained from Rolls-Royce Limited, Attn: Dart Engine Service Manager, East Kilbride, Glasgow G74 4PY, Scotland; telephone: 011-44-1355-220-200, fax: 011-44-1141-778-432. This information may be examined at the Federal Aviation Administration (FAA), New England Region, Office of the Regional Counsel, 12 New England Executive Park, Burlington, MA; or at the Office of the Federal Register, 800 North Capitol Street, NW, suite 700, Washington, DC.

FOR FURTHER INFORMATION CONTACT: Jason Yang, Aerospace Engineer, Engine Certification Office, FAA, Engine and Propeller Directorate, 12 New England Executive Park, Burlington, MA 01803-5299; telephone 781-238-7747, fax 781-238-7199.

SUPPLEMENTARY INFORMATION: A proposal to amend part 39 of the Federal Aviation Regulations (14 CFR part 39) to include an airworthiness directive (AD) applicable to Rolls-Royce Ltd. (R-R) Dart 511, 511-7E, 514-7, 528, 528-7E, 529-7E, 532-7, 532-7L, 532-7N, 532-7P, 532-7R, 535-7R, 551-7R, and 552-7R turboprop engines was published in the Federal Register on January 12, 2000 (65 FR 1840). That action proposed to require:

• Installation of a feathering probe.

• Installation of a steel retaining ring in the reduction gear housing.

• Replacement of a torquemeter oil pressure transfer bobbin.

The actions will be required to be accomplished at the next shop visit after the effective date of the AD, or by December 31, 2000, whichever occurs first, in accordance with R-R service bulletin (SB) Da72-348, Revision 13, dated April 1999.

Conclusion

Interested persons have been afforded an opportunity to participate in the making of this amendment. No comments were received on the proposal or the FAA's economic analysis. The FAA has determined that air safety and the public interest require the adoption of the rule as proposed.

Economic Impact

There are approximately 1500 engines of the affected design in the worldwide fleet. The FAA estimates that 100 engines installed on aircraft of U.S. registry would be affected by this AD, that it would take approximately two work hours per engine to accomplish the actions, and that the average labor rate is $60 per work hour. Required parts would cost approximately $300 per engine. Based on these figures, the total cost impact of the AD on U.S. operators is estimated to be $42,000.

Regulatory Impact

This rule does not have federalism implications, as defined in Executive Order 13132, because it will not have a substantial direct effect on the States, on the relationship between the national government and the States, or on the distribution of power and responsibilities among the various levels of government. Accordingly, the FAA has not consulted with state authorities prior to publication of this rule.

For the reasons discussed above, I certify that this regulation (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-12-18 Rolls Royce Ltd.: Amendment 39-11796, Docket No. 99-NE-50-AD.

Applicability: This AD is applicable to Rolls-Royce Ltd. (R-R) Dart 511, 511-7E, 514-7, 528, 528-7E, 529-7E, 532-7, 532-7L, 532-7N, 532-7P, 532-7R, 535-7R, 551-7R, and 552-7R turboprop engines. These engines are installed on but not limited to Fokker Aircraft B.V. F27 series and Maryland Air Industries (formerly Fairchild) F-27 and FH-227 series airplanes.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance Compliance with this AD is required as indicated below, unless already completed.

To prevent a propeller from overspeeding, resulting in propeller release after a failure of the annulus gear, which could result in damage to an adjacent engine or to the airplane, do the following:

Installation of a Sensor Probe and Retaining Ring

(a) At the next shop visit after the effective date of this AD, or by December 31, 2000, whichever occurs first, do all of the following:

(1) Install a feathering probe in the front bearing panel of the reduction gearbox in accordance with paragraph 2.A. of service bulletin (SB) Da72-348, revision 13, dated April 13, 1999.

(2) Install a steel retaining ring between the nose casing and the front bearing panel in accordance with paragraph 2.C. of SB Da72-348, revision 13, dated April 13, 1999.

(3) Replace the existing transfer bobbin with an aluminum bobbin in accordance with paragraph 2.C. of SB Da72-348, revision 13, dated April 13, 1999.

Definition of a Shop Visit

(b) For the purposes of this AD, a shop visit is defined as any maintenance action that results in the removal or disassembly of the reduction gearbox.

Alternative Method of Compliance

(c) An alternative method of compliance or adjustment of the compliance time that provides an acceptable level of safety may be used if approved by the Manager, Engine Certification Office (ECO). Operators shall submit their request through an appropriate FAA Principal Maintenance Inspector, who may add comments and then send it to the Manager, ECO.

Note 2: Information concerning the existence of approved alternative methods of compliance with this airworthiness directive, if any, may be obtained from the ECO.

Special Flight Permits

(d) Special flight permits may be issued in accordance with §§ 21.197 and 21.199 of the Federal Aviation Regulations (14 CFR 21.197 and 21.199) to operate the aircraft to a location where the requirements of this AD can be accomplished.

Documents Incorporated by Reference

(e) The inspection shall be done in accordance with the following Rolls-Royce service bulletin:

Document No. | Pages | Revision | Date
(The original service bulletin omitted page 8.)
Da72-348 | 1-2, 2A/2B | 13 | Apr. 1999.
| 3 | 7 | Aug. 22, 1969.
| 4-7 | Original | Dec. 24, 1968.
| 9 | 11 | July 10, 1970.
| 9A | 11 | July 10, 1970.
| 10-12 | 11 | July 10, 1970.
| 12A-12B | 11 | July 10, 1970.
| 13 | 11 | July 10, 1970.
| 14-16 | Original | Dec. 24, 1968.
| 17 | 4 | May 16, 1969.
| 18-19 | Original | Dec. 24, 1968.
| 20-20A | 10 | Jan. 23, 1970.
| 21 | 6 | July 11, 1969.
| 22 | Original | Dec. 24, 1968.
| 23 | 11 | July 10, 1970.
| 24 | Original | Dec. 24, 1968.
| 25-26 | 13 | Apr. 1999.
Supplement | 1-2 | Original | Feb. 7, 1969.
Total pages: 32

This incorporation by reference was approved by the Director of the Federal Register in accordance with 5 U.S.C. 552(a) and 1 CFR part 51. Copies may be obtained from Rolls-Royce Limited, Attn: Dart Engine Service Manager, East Kilbride, Glasgow G74 4PY, Scotland; telephone: 011-44-1355-220-200, fax: 011-44-1141-778-432. Copies may be inspected at the FAA, New England Region, Office of the Regional Counsel, 12 New England Executive Park, Burlington, MA; or at the Office of the Federal Register, 800 North Capitol Street, NW., suite 700, Washington, DC.

Effective Date of This AD

(f) This amendment becomes effective on July 31, 2000.

Issued in Burlington, Massachusetts, on June 9, 2000.
David A. Downey,
Assistant Manager, Engine and Propeller Directorate, Aircraft Certification Service.

[FR Doc. 00-15424 Filed 6-23-00; 8:45 am]

BILLING CODE 4910-13-U